DEPARTMENT OF COMMERCE

National Oceanic and Atmospheric Administration

RIN 0648-XF091

Meeting of the Columbia Basin Partnership Task Force of the Marine Fisheries Advisory Committee

AGENCY: National Marine Fisheries Service (NMFS), National Oceanic and Atmospheric Administration (NOAA), Commerce.

ACTION: Notice of open public meeting.

SUMMARY: This notice sets forth the proposed schedule and agenda of a forthcoming meeting of the Marine Fisheries Advisory Committee's (MAFAC) Columbia Basin Partnership Task Force. The Task Force will discuss the issues outlined under SUPPLEMENTARY INFORMATION below.

DATES: The meeting will be held January 24, 2017, from 1:00 p.m. to 5:00 p.m., and January 25, 2017, from 8:00 a.m. to 4:00 p.m.

ADDRESSES: The meeting will be held at the Port of Portland Headquarters, Chinook Room, 8th Floor, 7200 NE Airport Way, Portland, OR 97218.

FOR FURTHER INFORMATION CONTACT: Katherine Cheney; NOAA Fisheries West Coast Region; (503) 231-6730; email: Katherine.Cheney@noaa.gov.

SUPPLEMENTARY INFORMATION: Notice is hereby given of a meeting of MAFAC's Columbia Basin Partnership Task Force (CBP Task Force). The MAFAC was established by the Secretary of Commerce (Secretary) and since 1971, advises the Secretary on all living marine resource matters that are the responsibility of the Department of Commerce. The complete MAFAC charter and summaries of prior MAFAC meetings are located online at http://www.nmfs.noaa.gov/ocs/mafac/. The CBP Task Force reports to MAFAC and is being convened to discuss and develop recommendations for long-term goals for Columbia Basin salmon and steelhead that address both conservation and harvest opportunities. These goals will be developed in the context of habitat capacity, climate change, and other factors that affect natural mortality. More information is available at the CBP Task Force Web page: http://www.westcoast.fisheries.noaa.gov/columbia_river/index.html.

Matters To Be Considered

This meeting time and agenda are subject to change.

The meeting is convened to provide an overview of the CBP Task Force and discuss a collective approach to the work ahead. The meeting is open to the public as observers, and a public comment period will be provided on January 25, 2017, from 1:30-2:00 p.m. to accept public input, limited to the time available.

Special Accommodations

The meeting is physically accessible to people with disabilities. Requests for sign language interpretation or other auxiliary aids should be directed to Katherine Cheney; 503-231-6730 by January 10, 2017.

Dated: December 21, 2016.
Jennifer Lukens,
Director for the Office of Policy, National Marine Fisheries Service.

[FR Doc. 2016-31278 Filed 12-27-16; 8:45 am]

BILLING CODE 3510-22-P